DEPARTMENT OF ENERGY

Western Area Power Administration

Interconnection of the Proposed Deer Creek Station Energy Facility Project, South Dakota

AGENCY: Western Area Power Administration, U.S. Department of Energy.

ACTION: Notice of Intent to prepare an Environmental Impact Statement and to conduct scoping meetings; Notice of floodplain and wetlands involvement.

SUMMARY: The Western Area Power Administration (Western), an agency within the U.S. Department of Energy (DOE), intends to prepare an environmental impact statement (EIS) for the interconnection of the proposed Deer Creek Station Energy Facility (Project) in South Dakota, in accordance with the National Environmental Policy Act of 1969 (NEPA), as amended, DOE NEPA Implementing Procedures (10 CFR 1021), and the Council on Environmental Quality (CEQ) regulations for implementing NEPA (40 CFR 1500-1508). Basin Electric Power Cooperative (Basin Electric) has requested to interconnect the proposed Project to Western's power transmission system. The EIS will address Western's Federal action of whether to allow interconnection at its White Substation, and to make any necessary modifications to Western facilities to accommodate the interconnection. The EIS will also review the potential environmental impacts of constructing, operating, and maintaining Basin Electric's proposed Project, which includes a 300 megawatt (MW) combined-cycle natural gas generation facility and associated electric, natural gas, and water lines that would be constructed east of White in Brookings and Deuel counties, South Dakota. Portions of Basin Electric's proposed Project may affect floodplains and wetlands, so this Notice of Intent also serves as a notice of proposed floodplain or wetland action, in accordance with 10 CFR 1022.12 (a). Western will hold a public scoping meeting near the Project area to share information and receive comments and suggestions on the scope of the EIS.

DATES: An open-house public scoping meeting will be held on February 24, 2009, in White, South Dakota, from 6 p.m. to 9 p.m. CST. The public scoping period starts with the publication of this notice in the Federal Register and will continue through April 7, 2009. To be assured of consideration, all fax or e-mail comments or suggestions regarding the appropriate scope of the EIS must be received by the end of the scoping period. Mailed comments must be postmarked no later than midnight on the last day of the scoping period.

ADDRESSES: The open-house public scoping meeting will be held at the following location starting at 6 p.m. CST.: February 24, 2009, McKnight Community Hall, 228 West Main Street, White, SD 57276.

Written comments on the scope of the EIS should be addressed to the following: Mr. Matt Marsh, NEPA Document Manager, Western Area Power Administration, Upper Great Plains Customer Service Region, P.O. Box 35800, Billings, MT 59107-5800, fax (406) 247-7408, or e-mail DeerCreekStationEIS@wapa.gov.

FOR FURTHER INFORMATION CONTACT: For information on the proposed Project, the EIS process, and general information about interconnections with Western's transmission system, contact Mr. Marsh at the address provided above. Parties wishing to be placed on the Project mailing list for future information, and to receive copies of the Draft and Final EIS when they are available, should also contact Mr. Marsh.

For general information on DOE NEPA review procedures or status of a NEPA review, contact Ms. Carol M. Borgstrom, Director of NEPA Policy and Compliance, GC-20, U.S. Department of Energy, 1000 Independence Avenue SW., Washington, DC 20585, telephone (202) 586-4600 or (800) 472-2756.

SUPPLEMENTARY INFORMATION: Western, an agency within DOE, markets Federal hydroelectric power to preference customers, as specified by law. These customers include municipalities, cooperatives, public utilities, irrigation districts, Federal and State agencies, and Native American Tribes in 15 western states, including South Dakota. Western owns and operates about 17,000 miles of transmission line.

Basin Electric is a regional wholesale electric generation and transmission cooperative owned and controlled by its member cooperatives. Basin Electric serves approximately 2.5 million customers covering 430,000 square miles in portions of nine states, including Colorado, Iowa, Minnesota, Montana, Nebraska, New Mexico, North Dakota, South Dakota, and Wyoming.

Project Description

Basin Electric has requested interconnection with Western's electric transmission system at White Substation, located in Brookings County, South Dakota. Western's Federal action is to consider Basin Electric's interconnection request under Western's Open Access Transmission Service Tariff and make a decision whether to approve or deny the interconnection request. If the decision is to approve the request, Western's action would include making necessary system modifications to accommodate the interconnection of Basin Electric's proposed Project.

Basin Electric's proposed Project is to construct, own, operate, and maintain the Deer Creek Station Energy Facility Project, a 300 MW combined-cycle natural gas generation facility, water pipeline, transmission lines, transmission interconnection(s), and other associated facilities, all in Brookings and Deuel counties in eastern South Dakota. The purpose of the proposed Project is to help serve increased load demand for electric power in the eastern portion of Basin Electric's service area. Basin Electric's eastern service area comprises western Nebraska, northwestern and central Iowa, portions of southern Minnesota, all of South Dakota, portions of eastern Montana, and western and central North Dakota. The need for additional generating capacity is driven by the increasing electrical power usage of the Basin Electric membership consumers. Between 1999 and 2006, Basin Electric's total system peak demand increased 752 MW from 1,195 MW to 1,947 MW, or approximately 107 MW per year. In 2007 Basin Electric prepared a forecast showing load and capability surpluses/deficits through the year 2021. The forecast predicts that by 2014, there will be a deficit of 800-900 MW for the eastern portion of their service area. The proposed Project's addition of 300 MW of generation will help meet Basin Electric's future energy requirements.

Basin Electric's proposed Project is subject to the jurisdiction of the South Dakota Public Utilities Commission (SDPUC) which has regulatory authority for siting power plants and transmission lines within the State. Basin Electric will submit an application for an Energy Conversion Facility Permit and a Route Permit to the SDPUC. The SDPUC permits would authorize Basin Electric to construct the proposed Project under South Dakota rules and regulations.

Western intends to prepare an EIS to analyze the impacts of its Federal action and Basin Electric's proposed Project in accordance with the NEPA, as amended, DOE NEPA Implementing Procedures (10 CFR 1021), and the CEQ regulations for implementing NEPA (40 CFR 1500-1508). While Western's Federal action would be limited to the approval or denial of the interconnection request and any modifications to Western's power system necessary to accommodate the interconnection, the EIS will also identify and address the environmental impacts of Basin Electric's proposed Project. Basin Electric has identified two preliminary alternative generation sites and associated linear facilities, located approximately 20 miles east of Brookings and 60 miles northeast of Sioux Falls. The EIS will evaluate these alternatives, any other viable alternatives to Basin Electric's proposed Project identified during the public scoping process, and the No Action Alternative in detail. The two preliminary alternative generation facility sites are:

• The White Site I (Brookings County, T111N R48W, Section 25 NE Quarter).

• The White Site II (Brookings County, T111N R48W, Section 2 NW Quarter).

Basin Electric's two alternative locations are in close proximity to the Northern Border Natural Gas Pipeline, water sources, and the existing transmission system for the delivery of power to its members. The proposed generation facility would require new infrastructure, including 10 to 14 miles of natural gas pipeline, up to a mile of 345-kilovolt (kV) transmission line, 3 to 4 miles of water pipeline, groundwater wells, a substation (on White Site II only), road access to the generation facility, and wastewater processing.

Selection of White Site I would require the construction of a 345-kV single circuit transmission line so that power generated could be transmitted to the existing Western White Substation. White Site II would include construction of an on-site substation. A short double circuit 345-kV transmission line would be needed to transmit power from the on-site substation to the existing 345-kV transmission line, located approximately ½ mile east of the White Site II.

For the 300 MW generation facility, Basin Electric proposes using a combined-cycle configuration where the exhaust from the combustion turbine generators passes through a heat recovery steam generator that extracts waste heat from the turbine exhaust. The recovery of the waste heat greatly increases the efficiency of the combined-cycle configuration. Most of the new base load fossil-fuel fired power plants built in the United States since the early 1990s have used combined-cycle technology. The generation facility would burn natural gas and would occupy approximately 40 acres.

Because Basin Electric's proposed Project may involve action in floodplains or wetlands, this Notice of Intent also serves as a notice of proposed floodplain or wetland action, in accordance with 10 CFR 1022.12 (a). The EIS will include a floodplain/wetland assessment and floodplain/wetland statement of findings following DOE regulations for compliance with floodplain and wetlands environmental review (10 CFR 1022).

Agency Responsibilities

Western is the lead Federal agency, as defined at 40 CFR 1501.5 for preparation of the NEPA analysis. The Rural Utilities Service of the U.S. Department of Agriculture has been invited by Western to be a cooperating agency. With this notice, Native American Tribes and agencies with jurisdiction or special expertise are invited to be cooperating agencies. Such tribes or agencies may make a request to Western to be a cooperating agency by contacting Western's NEPA Document Manager. Designated cooperating agencies have certain responsibilities to support the NEPA process, as specified at 40 CFR 1501.6 (b).

Environmental Issues

This notice is to inform agencies and the public of Western's Federal action and Basin Electric's proposed Project, and to solicit comments and suggestions for consideration in preparing the EIS. To help the public frame its comments, this notice contains a list of potential environmental issues Western has tentatively identified for analysis. These issues include:

1. Impacts on protected, threatened, endangered, or sensitive species of animals or plants or their critical habitats;

2. Impacts on other biological resources;

3. Impacts on land use, recreation, and transportation;

4. Impacts on floodplains and wetlands;

5. Impacts on cultural or historic resources and tribal values;

6. Impacts on human health and safety;

7. Impacts on air, soil, and water resources (including air quality, surface water impacts, and ground water impacts);

8. Visual impacts; and

9. Socioeconomic impacts and disproportionately high and adverse impacts to minority and low-income populations.

This list is not intended to be all-inclusive or to imply any predetermination of impacts. Environmental issues associated with Western's action and Basin Electric's proposed Project will be addressed separately in the EIS. Western invites interested parties to suggest specific issues within these general categories, or other issues not included above, to be considered in the EIS.

Public Participation

Public participation and full disclosure are planned for the entire EIS process. The EIS process will include the public scoping open house meeting and a scoping comment period to solicit comments from interested parties; consultation and involvement with appropriate Federal, State, local, and tribal governmental agencies; public review and a hearing on the draft EIS; publication of a final EIS; and publication of a Record of Decision expected in 2010. Additional informal public meetings may be held in the proposed Project area if public interest and issues indicate a need.

Western will hold an open-house public scoping meeting on February 24, 2009, in White, South Dakota, as noted above. The purpose of the scoping meeting is to provide information about Western's Federal action and Basin Electric's proposed Project, display maps, answer questions, and take written comments from interested parties. Attendees are welcome to come and go at their convenience and to speak one-on-one with Western and Basin Electric representatives. The public will have the opportunity to provide written comments at the meeting. In addition, attendees may provide written comments by fax, e-mail, or mail as discussed under DATES above.

Dated: January 30, 2009.
Timothy J. Meeks,
Administrator.

[FR Doc. E9-2552 Filed 2-5-09; 8:45 am]

BILLING CODE 6450-01-P